SECURITIES AND EXCHANGE COMMISSION

[Release No. 34-46041; File No. SR-PHLX-2002-29]

Self Regulatory Organizations; Philadelphia Stock Exchange, Inc.; Order Granting Approval to Proposed Rule Change Adopting Phlx Rule 757, Anti-Money Laundering Compliance Program

June 6, 2002.

On April 24, 2002, the Philadelphia Stock Exchange, Inc. (“Phlx” or “Exchange”) filed with the Securities and Exchange Commission (“Commission”), pursuant to Section 19(b)(1) of the Securities Exchange Act of 1934 (“Act”) ¹ and Rule 19b-4 thereunder,² a proposed rule changed to adopted Phlx Rule 757, Anti-Money Laundering Compliance Program. The proposed rule change was published for comment in the Federal Register on May 3, 2002.³ The Commission received no comments on the proposal.

¹ 15 U.S.C. 78s(b)(1).

² 17 CFR 240.19b-4.

³ See Securities Exchange Act Release No. 45830 (April 26, 2002), 67 FR 22472.

The Commission has reviewed carefully the Phlx's proposed rule change, and finds, for the reasons set forth below, that the proposed rule change is consistent with the requirements of the Act and the rules and regulations thereunder applicable to a national securities exchange, and in particular, with the requirements of Section 6(b)(5) of the Act.⁴ Section 6(b)(5) requires the rules of a national securities exchange be designed to prevent fraudulent and manipulative acts and practices, to promote just and equitable principles of trade, to foster cooperation and coordination with persons engaged in regulating, clearing, settling, processing information with respect to, and facilitating transactions in securities, to remove impediments to and perfect the mechanism of a free and open market and a national market system, and, in general, to protect investors and the public interest. The Commission finds that the Phlx's proposed rule change accurately, reasonably, and efficiently implements the requirements of the Uniting and Strengthening America by Providing Appropriate Tools Required to Intercept and Obstruct Terrorism Act of 2001 (the USA PATRIOT Act) as it applies to Phlx members. The Commission notes that anti-money laundering compliance programs will evolve over time, and that improvements to anti-money laundering compliance programs are inevitable as Phlx members find new ways to combat money laundering and to detect suspicious activities.

⁴ 15 U.S.C. 78f(b)(5).

It is therefore ordered, pursuant to Section 19(b)(2) of the Act,⁵ that the proposed rule change (SR-PHLX-2002-29) be, and it hereby is, approved.

⁵ 15 U.S.C. 78s(b)(2).

For the Commission, by the Division of Market Regulation, pursuant to delegated authority.⁶
⁶ 17 CFR 200.30-3(a)(12).
Margaret H. McFarland,
Deputy Secretary.

[FR Doc. 02-14780 Filed 6-11-02; 8:45 am]

BILLING CODE 8010-01-M